DEPARTMENT OF THE INTERIOR

Fish and Wildlife Service

[FWS-R9-IRTM-2008-N0095; 90250-1660-6050-9Z]

Privacy Act of 1974; Amendments to Existing Systems of Records

AGENCY: Fish and Wildlife Service, Interior.

ACTION: Proposed amendment of existing Privacy Act systems of records.

SUMMARY: In accordance with the Privacy Act of 1974 (5 U.S.C. 552a), the U.S. Fish and Wildlife Service of the Department of the Interior is issuing public notice of its intent to amend 19 existing Privacy Act systems of records notices to add a new routine use to authorize the disclosure of records to individuals involved in responding to a breach of Federal data.

DATES: Comments must be received by July 14, 2008. The notice will be effective as proposed at the end of the comment period unless comments are received which would require a contrary determination. The Department will publish a revised notice if changes are made based upon a review of comments received.

ADDRESSES: Any persons interested in commenting on these proposed amendments may do so by submitting comments in writing to the U.S. Fish and Wildlife Service Privacy Act Officer, Johnny R. Hunt, 4401 North Fairfax Drive, Division of Information and Resources Technology Management, MS-380, Arlington Square Building, 4401 North Fairfax Drive, Arlington, VA 22203, or by e-mail to Johnny_Hunt@fws.gov.

FOR FURTHER INFORMATION CONTACT: U.S. Fish and Wildlife Service Privacy Act Officer, Johnny R. Hunt, 4401 North Fairfax Drive, Division of Information and Resources Technology Management, MS-380, Arlington Square Building, 4401 North Fairfax Drive, Arlington, VA 22203, or by e-mail to Johnny_Hunt@fws.gov.

SUPPLEMENTARY INFORMATION: On May 22, 2007, in a memorandum for the heads of Executive Departments and Agencies entitled “Safeguarding Against and Responding to the Breach of Personally Identifiable Information,” the Office of Management and Budget directed agencies to develop and publish a routine use for disclosure of information in connection with response and remedial efforts in the event of a data breach. This routine use will serve to protect the interests of the individuals, whose information is at issue by allowing agencies to take appropriate steps to facilitate a timely and effective response to the breach, thereby improving the agency's ability to prevent, minimize, or remedy any harm resulting from a compromise of data maintained in its systems of records. Accordingly, the Fish and Wildlife Service of the Department of the Interior is proposing to add a new routine use to authorize disclosure to appropriate agencies, entities, and persons of information maintained in the following systems in the event of a data breach. These amendments will be effective as proposed at the end of the comment period unless comments are received that would require a contrary determination. We will publish a revised notice if changes are made based upon a review of comments received.

Johnny R. Hunt,
U.S. Fish and Wildlife Service Privacy Act Officer.

SYSTEM NAMES:

Interior, FWS-3: “Security File”, (Published March 24, 1981, 46 FR 18368).

Interior, FWS-4: “Tort Claim Records”, (Published December 6, 1983, 48 FR 54715).

Interior, FWS-5: “National Wildlife Special Use Permits”, (Published December 6, 1983, 48 FR 54716).

Interior, FWS-6: “Hunting and Fishing Survey Records”, (Published March 24, 1981, 46 FR 18370).

Interior, FWS-7: “Water Development Project and/or Effluent Discharge Permit Application”, (Published March 24, 1981, 46 FR 18370-18371).

Interior, FWS-10: “National Fish Hatchery Special Use Permits”, (Published December 6, 1983, 48 FR 54717).

Interior, FWS-11: “Real Property Records”, (Published December 6, 1983, 48 FR 54717).

Interior, FWS-13: “North American Breeding Bird Survey”, (Published April 11, 1977, 42 FR 19086).

Interior, FWS-17: “Diagnostic—Extension Service Records”, (Published April 11, 1977, 42 FR 19088).

Interior, FWS-19: “Endangered Species Licensee System”, (Published December 6, 1983, 48 FR 54718).

Interior, FWS-20: “Investigative Case File System”, (Published December 6, 1983, 48 FR 54719).

Interior, FWS 21: “Permits System”, (Published September 4, 2003, 68 FR 52610-52612).

Interior, FWS 22: “U.S. Deputy Game Warden”, (Published March 24, 1981, 46 FR 18375).

Interior, FWS 23: “Motor Vehicle Permit Log”, (Published March 24, 1981, 46 FR 18376).

Interior, FWS 25: “Contract and Procurement Records”, (Published December 6, 1983, 48 FR 54721).

Interior, FWS 26: “Migratory Bird Population and Harvest Systems”, (Published March 24, 1981, 46 FR 18378).

Interior, FWS 27: “Correspondence Control System”, (Published April 11, 1977, 42 FR 19092).

Interior, FWS 30: “Marine Mammals Management, Marking, Tagging and Reporting Program”, (Published August 5, 1993, 58 FR 41803).

Interior, FWS 34: “National Conservation Training Center Training Server System”, (Published April 11, 2002, 67 FR 17711).

NEW ROUTINE USE:

Disclosures outside the Department of the Interior may be made:

To appropriate agencies, entities, and persons when:

(a) It is suspected or confirmed that the security or confidentiality of information in the system of records has been compromised; and

(b) The Department has determined that as a result of the suspected or confirmed compromise there is a risk of harm to economic or property interests, identity theft or fraud, or harm to the security or integrity of this system or other systems or programs (whether maintained by the Department or another agency or entity) that rely upon the compromised information; and

(c) The disclosure is made to such agencies, entities, and persons who are reasonably necessary to assist in connection with the Department's efforts to respond to the suspected or confirmed compromise and prevent, minimize, or remedy such harm.

[FR Doc. E8-12402 Filed 6-3-08; 8:45 am]

BILLING CODE 4310-55-P